GENERAL SERVICES ADMINISTRATION

[Notice-PBS-2023-03; Docket No. 2023-0002; Sequence No. 20]

Notice of Availability for the Record of Decision of the Environmental Impact Statement for the U.S. Food and Drug Administration, Muirkirk Road Campus Master Plan in Laurel, Maryland

AGENCY: Public Buildings Service (PBS), National Capital Region, General Services Administration (GSA).

ACTION: Notice.

SUMMARY: GSA issued a Record of Decision (ROD) for the Food and Drug Administration (FDA) Muirkirk Road Campus (MRC) Master Plan, in Laurel, Maryland, on June 16, 2023. The ROD was prepared in accordance with the National Environmental Policy Act (NEPA) of 1969, the Council on Environmental Quality Regulations, and the GSA PBS NEPA Desk Guide.

DATES: Applicable: Friday, June 16, 2023.

FOR FURTHER INFORMATION CONTACT: Lindsey Veas, GSA, National Capital Region, PBS, Office of Planning and Design Quality, at 202-262-9236.

SUPPLEMENTARY INFORMATION:

Background

The General Services Administration, in cooperation with the FDA, has prepared a Master Plan for the MRC in Laurel, Maryland. The MRC Master Plan creates a framework to guide development and add capacity over the course of next 10 to 30 years. The FDA owns 249 acres of land at Muirkirk Road. The MRC West Parcel comprises 197 acres west of Odell Road. The remaining 52 acres makes up the MRC East Parcel located east of Odell Road. The FDA acquired the land for the Beltsville Research Facility (BRF) from the U.S. Department of Agriculture (USDA) in 1964. Today, the MRC is home to the Center for Veterinary Medicine (CVM), the Center for Food Safety and Applied Nutrition (CFSAN), and support staff.

Previous master plans approved by National Capital Planning Commission (NCPC) and Prince George's County include the 1966 Site Development Plan and the 1981 Master Plan. The MRC's current population is 300 employees; the 1966 and 1981 Master Plans limited future population growth to 1,800 employees. The MRC Master Plan evolved throughout the master planning process that began in September 2020. Initially, the Draft Master Plan included two phases of office buildings without any laboratories. The first phase accommodates 700 additional staff, and the second phase 800 additional staff, bringing the total campus population up to 1,800.

As a result of the COVID-19 pandemic, the workplace environment has gone through a fundamental change with a higher percentage of people working remotely. The FDA adopted the U.S. Department of Health and Human Services (HHS) 21st Century Workplace Space Planning Policy. Under this policy, a new workplace model based on increased telework provides efficient use of space and significantly reduces rent and rent related costs. Moving forward, HHS's policy is to provide dedicated workstations and offices only for staff who report to an office six or more days per pay period. Shared workstations and offices will be available for employees who predominantly telework fewer than six days per pay period. Based on current trends in teleworking, FDA's White Oak campus has significant capacity to absorb future growth and consolidation of FDA employees within the DC metropolitan area from leased space as the leases expire. For laboratory employees, remote work is not possible due to the nature of the work and existing laboratories at FDA's White Oak Campus are fully occupied. Therefore, FDA shifted its focus for the MRC from mostly new office space to also increasing the amount of laboratory space.

The Master Plan provides a framework for development at the MRC to accommodate up to 1,800 FDA employees and support staff. GSA completed an EIS that assessed the impacts of the population increase and additional growth needed on the MRC to support the increased population.

Preferred Alternative

GSA has chosen to implement Alternative B: Dual Campus, as defined in the Final EIS (GSA, April 2023). This decision is based on analyses contained in the MRC Master Plan Draft EIS issued in December 2020, the MRC Master Plan Final EIS issued in April 2023, and the comments of Federal and State agencies, stakeholder organizations, members of the public and elected officials and other information in the Administrative Record.

Implementation of Alternative B will be distributed between the MOD 1 and MOD 2 buildings and the Beltsville Research Facility (BRF) site. Alternative B has been broken out into three phases which include:

• Phase 1—construction of an approximate 18,000-square-foot annex to the MOD 2 building. The population at the MRC West Parcel will remain at 300. The annex building will accommodate both staff from the BRF and the renovation occurring within MOD 2.

• Phase 2—construction of two laboratory buildings that will accommodate 168 scientists and support staff in approximately 168,000 gross square feet (gsf) of lab space and 6,300 gsf of special use space. Phase 2 includes the removal of the surface parking lot adjacent to MOD 1 and the construction of a parking garage with 235 spaces. An approximate 10,000 gsf maintenance/storage building adjacent to the new parking garage will also be built. Phase 2 will include maintaining the metal warehouse building and fitness center at the BRF, creating a temporary surface lot on the BRF site, and constructing a new entrance to Odell Road for truck screening. A visitor parking lot will be constructed and the Muirkirk Road entrance will be rebuilt with a shared drop-off.

• Phase 3—construction of two office buildings that will accommodate a population of 1,332 and shared use space to support the campus. The two new office buildings will be constructed on the site of the BRF. The total gross area is approximately 166,500 gsf of office space and 24,5000 gsf of special use space. This phase will also include a four-level parking garage for 665 spaces. Additionally, during Phase 3, temporary parking and all remaining existing buildings at the BRF site will be removed.

An elevated boardwalk will be constructed within the natural landscape that will connect the laboratory buildings with the office buildings. A skybridge between the laboratory and office buildings will encourage collaboration. Alternative B will also include space for shared amenities including a conference center, cafeteria, and fitness center.

Alternative B is necessary to continue to guide future long-term development of the MRC. Alternative B highlights views, improves connectivity and walkability, and conserves the natural landscape. Alternative B is in line with the Master Plan as both aim to:

• maintain a 100-foot landscape buffer along the perimeter of the campus,

• set the buildings back at least 75 feet from the interior roadways,

• respect the woodlands as much as possible and make them accessible for employees,

• create new view corridors into the woodlands at the heart of the campus,

• avoid development and human interference in the pasture areas as these are being used by FDA for research and the preservation of open space,

• connect the existing and Phase 2 buildings through a continuous service corridor,

• allow people to move between new buildings through a physical connection that protects them from the elements, and

• conserve the stream valleys and natural drainage patterns

Location of Record of Decision

The ROD can be found on GSA's project website at www.gsa.gov/ncrnepa.

Mydelle Wright,
Director, Office of Planning and Design Quality, Public Buildings Service, National Capital Region, General Services Administration.

[FR Doc. 2023-13438 Filed 6-23-23; 8:45 am]

BILLING CODE 6820-34-P